DEPARTMENT OF HEALTH AND HUMAN SERVICES

Centers for Disease Control and Prevention

[30Day-18-0765]

Agency Forms Undergoing Paperwork Reduction Act Review

In accordance with the Paperwork Reduction Act of 1995, the Centers for Disease Control and Prevention (CDC) has submitted the information collection request titled Fellowship Management System to the Office of Management and Budget (OMB) for review and approval. CDC previously published a “Proposed Data Collection Submitted for Public Comment and Recommendations” notice on September 5, 2017 to obtain comments from the public and affected agencies. CDC received two non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Fellowship Management System, (OMB Control Number 0920-0765, Expiration date April 30, 2018)—Extension—Division of Scientific Education and Professional Development, Centers for Disease Control and Prevention (CDC).

Background and Brief Description

The Division of Scientific Education and Professional Development (DSEPD) requests a three-year extension to continue use of CDC's Fellowship Management System (FMS) that allow individuals to apply to fellowships online, allow public health agencies to submit fellowship assignment proposals online, and track applicant and alumni information.

FMS is key to CDC's ability to protect the public's health by supporting training opportunities that strengthen the public health workforce. Since 2015, OMB has approved non-substantive changes to FMS information collection to accurately reflect evolving fellowship eligibility requirements, provide clarification of existing questions, accommodate the changing needs of host organizations, and to account for the addition of 150 new applicants to the Science Ambassadors Fellowship. A three-year extension will allow applicants, public health agencies, and alumni continued use of FMS for submission of electronic data.

The mission of DSEPD is to improve health outcomes through a competent, sustainable, and empowered public health workforce. Professionals in public health, epidemiology, medicine, economics, information science, veterinary medicine, nursing, public policy, and other related professionals seek opportunities, through CDC fellowships, to broaden their knowledge, skills, and experience to improve the science and practice of public health. CDC fellows are assigned to state, tribal, local, and territorial public health agencies; federal government agencies, including CDC and Department of Health and Human Services' operational divisions, such as Centers for Medicare & Medicaid Services; and to nongovernmental organizations, including academic institutions, tribal organizations, and private public health organizations.

FMS allows CDC to efficiently and effectively collect and process fellowship applications, fellowship assignment proposals, and fellowship alumni information from nonfederal persons. FMS is a flexible and robust data management system that is standardized and tailored for each CDC fellowship. CDC collects only the minimum amount of information required, thereby streamlining CDC's decision processes and reducing burden for respondents.

Respondent types vary depending on fellowship eligibility requirements. Responses to FMS questions are voluntary, and there are no costs to respondents other than their time.

CDC uses the information gathered to identify participants for its fellowship programs and address each program's needs and the needs of the public. By allowing online submissions of applications to fellowships and proposals for fellowship assignments, FMS can track fellowship applicants, alumni, and public health service agency employees seeking to host and work with fellows, all in one integrated database.

The total estimated annual burden hours are 4,556.

Estimated Annualized Burden Hours
Type of respondent | Form name | Number of respondents | Number of responses per respondent | Average burden per response (in hours)
Fellowship Applicants | FMS Application | 1,991 | 1 | 1.75
Science Ambassadors Fellowship | FMS Application for Science Ambassadors | 150 | 1 | 45/60
Fellowship Alumni | FMS Alumni Directory | 1,382 | 1 | 15/60
Public Health Agency Staff | FMS Host Site Module | 408 | 1 | 1.5

Leroy A. Richardson,
Chief, Information Collection Review Office, Office of Scientific Integrity, Office of the Associate Director for Science, Office of the Director, Centers for Disease Control and Prevention.

[FR Doc. 2017-26781 Filed 12-12-17; 8:45 am]

BILLING CODE 4163-18-P